DEPARTMENT OF ENERGY

Federal Energy Regulatory Commission

[Docket No. RP01-432-000]

Columbia Gas Transmission Corporation; Notice of Proposed Changes in FERC Gas Tariff

June 1, 2001.

Take notice that on May 29, 2001, Columbia Gas Transmission Corporation (Columbia) filed to its FERC Gas Tariff, Second Revised Volume No. 1, the following revised tariff sheet bearing a proposed effective date of June 1, 2001:

First Revised First Revised Sheet No. 500B

Columbia states that is submitting FTS Service Agreement Nos. 2000-10-30-0026 and 2000-10-30-0031 which are agreements for firm transportation to be provided by Columbia to first Energy Trading Services Inc. (First Energy). As directed by the Commission's order in Columbia's Docket No. CP01-70, Columbia is re-filing the First Energy service agreements as non-conforming service agreements to be effective June 1, 2001. Columbia Gas Transmission Corp., 95 FERC ¶ 61,218, mimeo at p. 15 and p. 18. Columbia filed these service agreements on March 27, 2001 in Docket No. CP01-70. As stated in Columbia's Docket No. CP01-70, these firm service arrangements enable First Energy to generate electricity at its West Lorain Generating Station effective June 1.

Columbia states that copies of its filing have been mailed to all firm customers, interruptible customers, and affected state commissions.

Any person desiring to be heard or to protest said filing should file a motion to intervene or a protest with the Federal Energy Regulatory Commission, 888 First Street, N.E., Washington, D.C. 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. The filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14341 Filed 6-6-01; 8:45 am]

BILLING CODE 6717-01-M